DEPARTMENT OF THE INTERIOR

Truckee River Operating Agreement, California and Nevada

AGENCY: Department of the Interior.

ACTION: Notice of Availability for a Final Environmental Impact Statement/ Environmental Impact Report (EIS/EIR).

SUMMARY: Pursuant to the National Environmental Policy Act of 1969, as amended, (NEPA) and the California Environmental Quality Act (CEQA), the U.S. Department of the Interior (Interior) and California Department of Water Resources (DWR), as co-lead agencies, have jointly prepared a Final EIS/EIR for the Truckee River Operating Agreement (TROA) which would implement section 205(a) of the Truckee-Carson-Pyramid Lake Water Rights Settlement Act of 1990, Title II of Public Law 101-618 (Settlement Act). The Final EIS/EIR has evaluated the proposed action (TROA Alternative), Local Water Supply Alternative, and No Action Alternative. Implementation of the proposed action would not result in any significant adverse environmental effects. A Notice of Availability of the Revised Draft EIS/EIR was published in the Federal Register on August 25, 2004 (69 FR 52303). The public review period on the Revised Draft EIS/EIR initially ended on October 29, 2004, but was extended to December 30, 2004.

DATES: No Federal or State decision will be made on the proposed action until a minimum of 30 days after the release of the Final EIS/EIR. After this 30-day period, Interior and DWR will complete their respective Record of Decision (ROD) and Notice of Determination (NOD). The ROD and NOD will identify the action to be implemented.

ADDRESSES: A copy of the Final EIS/EIR (compact disk or bound) may be obtained by writing to Kenneth Parr, Bureau of Reclamation (Reclamation), 705 North Plaza St., Rm. 320, Carson City, NV 89701 or by calling Reclamation at 800-742-9474 (enter 26) or 775-882-3436 or DWR at 916-651-0746. The Final EIS/EIR is also accessible from the following Web site: http://www.usbr.gov/mp/troa/. See SUPPLEMENTARY INFORMATION section for locations where the Final EIS/EIR is available for public review.

FOR FURTHER INFORMATION CONTACT: Kenneth Parr, Reclamation, telephone 775-882-3436, TDD 775-882-3436, fax 775-882-7592, e-mail: kparr@mp.usbr.gov; or Michael Cooney, DWR, telephone 916-651-0746, fax 916-651-0766, e-mail: mikec@water.ca.gov. Information is also available at the Bureau of Reclamation Web site: http://www.usbr.gov/mp/troa/.

SUPPLEMENTARY INFORMATION: Copies of the Final EIS/EIR are available for public review at:

• California Department of Water Resources, Central District Office, 901 P St., Suite 313B, Sacramento, CA 95814.

• Bureau of Reclamation, Public Affairs Office, 2800 Cottage Way, Sacramento, CA 95825.

• Bureau of Reclamation, 705 North Plaza Street, Carson City, NV 89701.

• Fish and Wildlife Service, 1340 Financial Blvd, Rm. 234, Reno, NV 89502.

• Natural Resources Library, U.S. Department of the Interior, 1849 C Street NW., Main Interior Building, Washington, DC 20240-0001.

• At various county libraries; please call 800-742-9474 (enter 26) for locations.

TROA Background

Section 205(a) of the Settlement Act directs the Secretary of the Interior (Secretary), in conjunction with others, to negotiate an operating agreement governing operation of Federal Truckee River reservoirs and other specified matters. Interior, U.S. Department of Justice, States of California and Nevada, Pyramid Lake Paiute Tribe, Sierra Pacific Power Company, Truckee Meadows Water Authority, and other entities in California and Nevada completed a negotiated agreement (i.e., Negotiated TROA) in February 2007. The Negotiated TROA is available as an appendix to the Final EIS/EIR or viewed at http://www.usbr.gov/mp/troa/.

TROA would, in part, (1) enhance conditions for the threatened Lahontan cutthroat trout and endangered cui-ui in the Truckee River basin; (2) increase municipal and industrial (M&I) drought protection for Truckee Meadows (Reno-Sparks metropolitan area); (3) improve Truckee River water quality downstream from Sparks, Nevada; and (4) enhance instream flows and recreational opportunities in the Truckee River basin. At the time TROA takes effect, the Settlement Act provides that a permanent allocation between California and Nevada of water in the Lake Tahoe, Truckee River, and Carson River basins will also take effect. Allocation of those waters has been a long-standing issue between the two States; implementation of TROA resolves that issue. In addition, Section 205 of the Settlement Act requires that TROA, among other things, implement the provisions of the Preliminary Settlement Agreement as modified by the Ratification Agreement (PSA) and ensure that water is stored in and released from Federal Truckee River reservoirs to satisfy the exercise of water rights in conformance with the Orr Ditch decree and Truckee River General Electric decree. PSA is a 1989 agreement between Sierra Pacific Power Company and the Pyramid Lake Paiute Tribe to change the operation of Federal reservoirs and Sierra Pacific's exercise of its Truckee River water rights to (1) improve spawning conditions for threatened and endangered fish species (cui-ui and Lahontan cutthroat trout) and (2) provide additional M&I water for Truckee Meadows during drought situations. Sierra Pacific's obligations and associated water rights have since been assigned to the Truckee Meadows Water Authority (TMWA).

Before TROA can be approved by the Secretary and the State of California, potential environmental effects of the agreement must be analyzed pursuant to NEPA and CEQA. Accordingly, Interior and DWR have jointly prepared a Final EIS/EIR for that purpose. A Draft EIS/EIR based on an earlier draft agreement was initially prepared and released for public review in February 1998. Subsequently, ongoing negotiations substantially modified the proposed agreement, resulting in the preparation of a Revised Draft EIS/EIR released in August 2004. The Final EIS/EIR contains responses to comments received on the Revised Draft EIS/EIR.

Current Activities

Following agreement to the Negotiated TROA in February 2007 by the negotiators, a Final EIS/EIR was completed. The Negotiated TROA is available as an appendix to the Final EIS/EIR or viewed at http://www.usbr.gov/mp/troa/. The Final EIS/EIR considers current conditions as well as three alternatives: (1) No Action Alternative (current reservoir management in the future, without TROA); (2) Local Water Supply Alternative (current reservoir management in the future with modified water sources, without TROA); and (3) TROA (changed reservoir management in the future). Section 205 of the Settlement Act also requires that TROA, once approved, be issued as a Federal Regulation. A draft regulation is being prepared for publication in the Federal Register at a later date. The Secretary cannot sign TROA until a ROD has been completed. The State of California cannot sign TROA until it has considered and certified a Final EIS/EIR. These and other steps, including approval by the Orr Ditch and Truckee River General Electric courts, must be completed before TROA may be implemented.

Description of Alternatives

The TROA Alternative is identified in the Final EIS/EIR as the preferred and environmentally superior alternative.

No Action Alternative (No Action). Under No Action, Truckee River reservoir operations would remain unchanged from current operations and would be consistent with existing court decrees, agreements, and regulations that currently govern surface water management (i.e., operating reservoirs in the Truckee River and Lake Tahoe basins and maintaining current minimum instream flows) in the Truckee River basin. TMWA's existing programs for surface water rights acquisition and groundwater pumping for M&I use would continue. Groundwater pumping and water conservation in Truckee Meadows, however, would satisfy a greater proportion of projected future M&I demand than under current conditions. Groundwater pumping in California would also increase to satisfy a greater projected future M&I demand.

Local Water Supply Alternative (LWSA). All elements of Truckee River reservoir operations, river flow management, Truckee River hydroelectric plant operations, minimum reservoir releases, reservoir spill and precautionary release criteria, and water exportation from the upper Truckee River basin and Lake Tahoe basin under LWSA would be the same as described under No Action. The principal differences between LWSA and No Action would be the source of water used for M&I purposes, extent of water conservation, implementation of a groundwater recharge program in Truckee Meadows, and assumptions regarding governmental decisions concerning approval of new water supply proposals.

TROA Alternative (TROA). TROA would modify existing operations of all designated reservoirs to enhance coordination and flexibility while ensuring that existing water rights are served and flood control and dam safety requirements are met. TROA would incorporate, modify, or replace various provisions of the Truckee River Agreement (TRA) and the Tahoe-Prosser Exchange Agreement (TPEA). As negotiated, TROA would supersede all requirements of any agreements concerning the operation of all reservoirs, including those of TRA and TPEA, and would become the sole operating agreement for all designated reservoirs.

All reservoirs would continue to be operated under TROA for the same purposes as under current operations and with most of the same reservoir storage priorities as under No Action and LWSA. The Settlement Act requires that TROA ensure that water is stored in and released from Truckee River reservoirs to satisfy the exercise of water rights in conformance with the Orr Ditch decree and Truckee River General Electric decree, except for those rights that are voluntarily relinquished by the parties to the PSA, or by any other persons or entities, or which are transferred pursuant to State law.

The primary difference between TROA and the other alternatives is that TROA would provide opportunities for storing and managing various categories of credit water, not provided for in current operations. Signatories to TROA generally would be allowed to accumulate credit water in storage by retaining or capturing water in a reservoir that would have otherwise been released from storage or passed through the reservoir to serve their respective downstream water right (e.g., retaining Floriston Rate water that would have been released to serve an Orr Ditch decree water right). In cases with a change in the place or type of use, such storage could take place only after a transfer in accordance with applicable State water law. Once accumulated, credit water would be classified by category with a record kept of its storage, exchange, and release. Credit water generally would be retained in storage or exchanged among the reservoirs until needed and released to satisfy its beneficial use. The Interim Storage Agreement (negotiated in accordance with section 205(b)(3) of the Settlement Act) would be terminated and new storage agreements between the Bureau of Reclamation and TROA signatories desiring to store credit water would be required.

In addition to credit water, TROA also establishes criteria for new wells in the Truckee River Basin in California to minimize short-term reduction in stream flow, provides for the implementation of the interstate allocation between California and Nevada, provides for the settlement of litigation, establishes a habitat restoration fund for the Truckee River, and establishes more strict conditions and approval requirements for pumping or siphoning water from Lake Tahoe, among other benefits.

Dated: January 9, 2008.
Willie R. Taylor,
Director, Office of Environmental Policy and Compliance.

[FR Doc. E8-1324 Filed 1-24-08; 8:45 am]

BILLING CODE 4310-MN-P